DEPARTMENT OF COMMERCE

International Trade Administration

[A-588-804]

Ball Bearings and Parts Thereof from Japan: Amended Final Results of Antidumping Duty Administrative Review Pursuant to Final Court Decision

AGENCY: Import Administration, International Trade Administration, Department of Commerce.

SUMMARY: On October 23, 2006, the United States Court of International Trade (CIT) sustained the Department of Commerce’s (the Department’s) redetermination on remand of the final results of the administrative review of the antidumping duty order on ball bearings and parts thereof from Japan for the period May 1, 2002, through April 30, 2003. Koyo Seiko Co., Ltd., and Koyo Corp. of U.S.A. (collectively, Koyo Seiko), NSK Ltd., NSK Corp., and NSK Precision America, Inc. (collectively, NSK), and NTN Corporation, NTN Bearing Corp. of America, American NTN Bearing Manufacturing Corp., NTN Driveshaft, Inc., and NTN-BCA Corp. (collectively, NTN) appealed the CIT’s decision to the United States Court of Appeals for the Federal Circuit (CAFC). On December 14, 2007, the CAFC affirmed the CIT’s decision. Because all litigation has concluded, the Department is now issuing these amended final results of review. We will instruct U.S. Customs and Border Protection (CBP) to liquidate entries subject to these amended final results.

EFFECTIVE DATE: August 15, 2008.

FOR FURTHER INFORMATION CONTACT: Thomas Schauer or Richard Rimlinger, AD/CVD Operations, Office 5, Import Administration, U.S. Department of Commerce, 14th Street and Constitution Avenue, NW, Washington, DC 20230; telephone: (202) 482-0410 or (202) 482-4477, respectively.

SUPPLEMENTARY INFORMATION:

Background

On September 15, 2004, the Department published the final results of administrative review of the antidumping duty order on ball bearings and parts thereof from Japan for the period May 1, 2002, through April 30, 2003. See Antifriction Bearings and Parts Thereof From France, Germany, Italy, Japan, Singapore, and the United Kingdom: Final Results of Antidumping Duty Administrative Reviews, Rescission of Administrative Reviews in Part, and Determination To Revoke Order in Part, 69 FR 55574 (September 15, 2004) (AFBs 14). Koyo Seiko, NSK, NTN, and Timken US Corporation (Timken) filed lawsuits with the CIT challenging the final results of AFBs 14. On January 31, 2006, the CIT affirmed the Department’s final results in part and remanded the case to the Department in part to reexamine its treatment of the lump-sum billing adjustments reported by Koyo Seiko. The CIT also remanded the case to the Department to explain its treatment of the high-profit sales reported by NTN. See NSK Ltd. v. United States, 416 F. Supp. 2d 1334 (CIT 2006) (NSK Ltd.).

The Department filed its remand results on April 3, 2006. In those remand results, the Department denied all of the lump-sum billing adjustments reported by Koyo Seiko and recalculated the antidumping margin for Koyo Seiko accordingly. The Department also explained its treatment of the high-profit sales reported by NTN. See Remand Determination NSK Ltd. v. United States, Consol. Court No. 04-00519 (April 3, 2006), which is available at http://ia.ita.doc.gov/remands/06-19.pdf. The results of redetermination affected only the calculation of the antidumping margin for Koyo Seiko.

On October 23, 2006, the CIT affirmed the Department’s final results of remand redetermination. See NSK Ltd. v. United States, 462 F. Supp. 2d 1254 (CIT 2006). Koyo Seiko, NSK, and NTN appealed the portion of the CIT’s decision in which it sustained the Department’s treatment of non-dumped sales. Also, Koyo Seiko appealed the Department’s treatment of Koyo Seiko’s lump-sum billing adjustments, NSK appealed the Department’s decision to consider changing its model-match methodology for future reviews, and NTN appealed the Department’s inclusion of high-profit sales in its calculation of normal value.

On December 14, 2007, the CAFC affirmed the CIT’s decision. See NSK Ltd. v. United States, 510 F.3d 1375 (CAFC 2007). Koyo Seiko filed a petition for panel rehearing and for rehearing en banc with the CAFC, which was denied on March 12, 2008. Because the period in which to file a petition for writ of certiorari with the United States Supreme Court has ended and no party filed the same, there is now a final and conclusive court decision in this case.

Amendment to Final Results

We are now amending the final results of this review to reflect the final and conclusive decision in this case. Our revised calculations for Koyo Seiko changed the weighted-average margin for ball bearings and parts thereof from Japan from 5.56 percent to 5.55 percent for the period May 1, 2002, through April 30, 2003. The Department will instruct CBP to liquidate entries of ball bearings and parts thereof from Japan exported by Koyo Seiko during the review period in accordance with these amended final results of review. We intend to issue the assessment instructions to CBP 15 days after the date of publication of these amended final results of review.

We are issuing and publishing this notice in accordance with sections 751(a)(1) and 777(i)(1) of the Tariff Act of 1930, as amended.

Dated: August 8, 2008.
David M. Spooner,
Assistant Secretary for Import Administration.

[FR Doc. E8-18942 Filed 8-14-08; 8:45 am]

BILLING CODE 3510-DS-S